DEPARTMENT OF TRANSPORTATION

National Highway Traffic Safety Administration

[Docket No. NHTSA 2002-13242; Notice 1]

Goodyear Tire & Rubber Company, Receipt of Application for Decision of Inconsequential Noncompliance

Goodyear Tire & Rubber Company (Goodyear) has determined that approximately 2,400 of the 66,697 P275/55R20 Eagle LS and P245/70R16 Wrangler SRA tires manufactured and shipped during the period May 25, 2002 to June 16, 2002, do not meet the labeling requirements mandated by Federal Motor Vehicle Safety Standard (FMVSS) No. 109, “New pneumatic tires.”

Pursuant to 49 U.S.C. 30118(d) and 30120(h), Goodyear has petitioned for a determination that this noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

FMVSS No. 109 (S4.3(d)) requires that each tire shall have permanently molded into or onto both sidewalls the generic name of each cord material used in the plies (both sidewall and tread area) of the tire. The tires were marked with the material identified as polyester when it was actually nylon. The error occurred as a result of a roll of nylon being incorrectly identified as polyester.

Goodyear believes that the noncompliance is inconsequential to motor vehicles safety because the nylon fabric involved is much stronger than polyester fabric normally used in these tires, the end result being tires with increased endurance. These tires have been tested and the results indicate that all the performance requirements of FMVSS No. 109 were met or exceeded. The error is considered as an isolated instance. Goodyear states that additional steps have now been put in place to insure the usage of only the correct fabric in the future.

Interested persons are invited to submit written data, views, and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: October 7, 2002.

(49 U.S.C. 301118, 301120; delegations of authority at 49 CFR 1.50 and 501.8)

Issued on: August 30, 2002.
Stephen R. Kratzke,
Associate Administrator for Rulemaking.

[FR Doc. 02-22632 Filed 9-4-02; 8:45 am]

BILLING CODE 4910-59-P